ENVIRONMENTAL PROTECTION AGENCY

[EPA-HQ-OPP-2008-0046; FRL-8391-3]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before January 2, 2009.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 180 for residues of pesticide chemicals in or on various food commodities. EPA has determined that the pesticide petitions described in this document contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 8E7445. (EPA-HQ-OPP-2008-0810). Interregional Research Project No. 4 (IR-4), 500 College Road East, Suite 201 W, Princeton, NJ 08540, proposes to establish a tolerance for residues of the insecticide spinosad, a fermentation product of Saccharopolyspora spinosa which consists of two related active ingredients: Spinosyn A (Factor A: CAS No. 131929-60-7) or 2-[(6-deoxy-2,3,4-tri-O-methyl-α-L-manno-pyranosyl)oxy]-13-[[5-(dimethylamino)-tetrahydro-6-methyl-2H-pyran-2-yl]oxy]-9-ethyl-2,3,3a,5a,5b,6,9,10,11,12,13,14,16a,16b-tetradecahydro-14-methyl-1H-as-Indaceno[3,2-d]oxacyclododecin-7,15-dione; and Spinosyn D (Factor D; CAS No. 131929-63-0) or 2-[(6-deoxy-2,3,4-tri-O-methyl-α-L-manno-pyranosyl)oxy]-13-[[5-(dimethyl-amino)-tetrahydro-6-methyl-2H-pyran-2-yl]oxy]-9-ethyl-2,3,3a,5a,5b,6,9,10,11,12,13,14,16a,16b-tetradecahydro-4,14-methyl-1H-as-Indaceno[3,2-d]oxacyclododecin-7,15-dione in or on pomegranate at 0.3 parts per million (ppm) and date at 0.1 ppm. EPA has determined adequate analytical methods are available for enforcement purposes for spinosad in plant and animal matrices. Methods include an immunoassay particle-based method 97.05 and a high performance liquid chromatography/ultraviolet (HPLC/UV) method GRM 03.15 and a suite of specific crop methods: GRM 94.02 (cottonseed and related commodities), GRM 95.17 (leafy vegetables), GRM 96.09 (citrus), GRM 96.14 (tree nuts), GRM 95.04 (fruiting vegetables), GRM 94.02.S1 (cotton gin byproducts). GRM 94.02 has a successful independent lab validation and was submitted for inclusion in the Pesticide Analytical Manual II (PAM II) as Method I. EPA recently concluded that for water, residues should be estimated using total spinosad residue method (EPA, DP # 316077, August 2, 2006). The Agency has concluded that spinosad are considered toxicologically identical to another pesticide, spinetoram. This conclusion is based on the following:

i. Spinetoram and spinosad are large molecules with nearly identical structures; and

ii. The toxicological profiles for each are similar (generalized systemic toxicity) with similar doses and endpoints chosen for human-health risk assessment. Spinosad and spinetoram should be considered toxicologically identical in the same manner that metabolites are generally considered toxicologically identical to the parent. Contact: Laura Nollen, (703) 305-7390, nollen.laura@epa.gov.

2. PP 8E7450. (EPA-HQ-OPP-2008-0805). Interregional Research Project No. 4 (IR-4), 500 College Road East, Suite 201 W, Princeton, NJ 08540, proposes to establish a tolerance for residues of the insecticide spinetoram, expressed as a combination of XDE-175-J: 1-H-as-indaceno[3,2-d]oxacyclododecin-7,15-dione, 2-[(6-deoxy-3-O-ethyl-2,4-di-O-methyl-a-L-mannopyranosyl)oxy]-13-[[(2R,5S,6R)-5-(dimethylamino)tetrahydro-6-methyl-2H-pyran-2-yl]oxy]-9-ethyl-2,3,3a,4,5,5a,5b,6,9,10,11,12,13,14,16a,16b-hexadecahydro 14-methyl-(2R,3aR,5aR,5bS,9S,13S,14R, 16aS,16bR); XDE-175-L: 1H-as-indaceno[3,2-d]oxacyclododecin-7,15-dione, 2-[(6-deoxy-3-O-ethyl-2,4-di-O-methyl-a-L-mannopyranosyl)oxy]-13-[[(2R,5S,6R)-5-(dimethylamino)tetrahydro-6-methyl-2H-pyran-2-yl]oxy]-9-ethyl-2,3,3a,5a,5b,6,9,10,11,12,13,14,16a,16b-tetradecahydro-4,14-dimethyl-, (2S,3aR,5aS,5bS,9S,13S,14R, 16aS,16bS); ND-J:(2R,3aR,5aR,5bS,9S,13S,14R,16aS,16bR)-9-ethyl-14-methyl-13-[[(2S,5S,6R)-6-methyl-5-(methylamino)tetrahydro-2H-pyran-2-yl]oxy]-7,15-dioxo-2,3,3a,4,5,5a,5b,6,7,9,10,11,12,13,14,15,16a,16b-octadecahydro-1H-as-indaceno[3,2-d]oxacyclododecin-2-yl 6-deoxy-3-O-ethyl-2,4-di-O-methyl-alpha-L-mannopyranoside; and NF-J: (2R,3S,6S)-6-([(2R,3aR,5aR,5bS,9S,13S,14R,16aS, 16bR)-2-[(6-deoxy-3-O-ethyl-2,4-di-O-methyl-alpha-L-mannopyranosyl) oxy]-9-ethyl-14-methyl-7,15-dioxo-2,3,3a,4,5,5a,5b,6,7,9,10,11,12,13,14,15,16a,16b-octadecahydro-1H-as-indaceno[3,2-d]oxacyclododecin-13-yl]oxy)-2-methyltetrahydro-2H-pyran-3-yl(methyl)formamide in or on pineapple at 0.02 ppm; pomegranate at 0.3 ppm; date at 0.1 ppm; spice, subgroup 19B, except black pepper at 1.7 ppm; hop, dry cones at 22 ppm; and pineapple, process residue at 0.08 ppm. Per the Federal Register of October 10, 2007 (72 FR 57492) (FRL-8149-9) supported by DP # 325387, August 9, 2008, EPA has determined adequate analytical methods are available for enforcement purposes for spinetoram in plant and animal matrices. The methods were noted as efficient and well-documented. The independent laboratory validation data were acceptable. Spinetoram and its metabolites are determined using liquid chromatography with positive-ion atmospheric pressure chemical ionization tandem mass spectrometry (LC/MS/MS). The limit of detection (LOD) and limit of quantitation (LOQ) in crop and animal matrices are typically 0.003 g/g and 0.01 g/g, respectively. Contact: Laura Nollen, (703) 305-7390, nollen.laura@epa.gov.

3. PP 8F7456. (EPA-HQ-OPP-2008-0811). Syngenta Crop Protection, Inc., P.O. Box 18300, Greensboro, NC 27419, proposes to establish a tolerance for residues of the herbicide mesotrione, in or on soybeans at 0.01 ppm. Practical and specific analytical method RAM 366/01 is available for detecting and measuring the level of mesotrione in or on various crop commodities. Contact: James M. Stone, (703) 305-7391, stone.james@epa.gov.

Amendment to Existing Tolerances

1. PP 8E7445. (EPA-HQ-OPP-2008-0810). Interregional Research Project No. 4 (IR-4), 500 College Road East, Suite 201 W, Princeton, NJ 08540, proposes to amend the tolerances in 40 CFR 180.495 (a) to increase the levels of existing tolerances for residues of the insecticide spinosad, a fermentation product of Saccharopolyspora spinosa which consists of two related active ingredients: Spinosyn A (Factor A: CAS No. 131929-60-7) or 2-[(6-deoxy-2,3,4-tri-O-methyl-α-L-manno-pyranosyl)oxy]-13-[[5-(dimethylamino)-tetrahydro-6-methyl-2H-pyran-2-yl]oxy]-9-ethyl-2,3,3a,5a,5b,6,9,10,11,12,13,14,16a,16b-tetradecahydro-14-methyl-1H-as-Indaceno[3,2-d]oxacyclododecin-7,15-dione; and Spinosyn D (Factor D; CAS No. 131929-63-0) or 2-[(6-deoxy-2,3,4-tri-O-methyl-α-L-manno-pyranosyl)oxy]-13-[[5-(dimethyl-amino)-tetrahydro-6-methyl-2H-pyran-2-yl]oxy]-9-ethyl-2,3,3a,5a,5b,6,9,10,11,12,13,14,16a,16b-tetradecahydro-4,14-methyl-1H-as-Indaceno[3,2-d]oxacyclododecin-7,15-dione in or on nut, tree, group 14 and pistachio from 0.02 to 0.08 ppm; and almond, hulls from 2.0 ppm to 9.0 ppm. A reduction to a 1-day pre-harvest interval (PHI) is supported with new MOR data for the increased tolerances in tree nuts. EPA has determined adequate analytical methods are available for enforcement purposes for spinosad in plant and animal matrices. Methods include an immunoassay particle-based method 97.05 and a high performance liquid chromatography/ultraviolet (HPLC/UV) method GRM 03.15 and a suite of specific crop methods: GRM 94.02 (cottonseed and related commodities), GRM 95.17 (leafy vegetables), GRM 96.09 (citrus), GRM 96.14 (tree nuts), GRM 95.04 (fruiting vegetables), GRM 94.02.S1 (cotton gin byproducts). GRM 94.02 has a successful independent lab validation and was submitted for inclusion in the Pesticide Analytical Manual II (PAM II) as Method I. EPA recently concluded that for water, residues should be estimated using total spinosad residue method. The Agency has concluded that spinosad are considered toxicologically identical to another pesticide, spinetoram. This conclusion is based on the following:

i. Spinetoram and spinosad are large molecules with nearly identical structures; and

ii. The toxicological profiles for each are similar (generalized systemic toxicity) with similar doses and endpoints chosen for human-health risk assessment. Spinosad and spinetoram should be considered toxicologically identical in the same manner that metabolites are generally considered toxicologically identical to the parent. Contact: Laura Nollen, (703) 305-7390, nollen.laura@epa.gov.

2. PP 8E7450. (EPA-HQ-OPP-2008-0805). Interregional Research Project No. 4 (IR-4), 500 College Road East, Suite 201 W, Princeton, NJ 08540, proposes to amend the tolerances in 40 CFR 180.635 to increase the levels of existing tolerances for residues of the insecticide spinetoram, expressed as a combination of XDE-175-J: 1-H-as-indaceno[3,2-d]oxacyclododecin-7,15-dione, 2-[(6-deoxy-3-O-ethyl-2,4-di-O-methyl-a-L-mannopyranosyl)oxy]-13-[[(2R,5S,6R)-5-(dimethylamino)tetrahydro-6-methyl-2H-pyran-2-yl]oxy]-9-ethyl-2,3,3a,4,5,5a,5b, 6,9,10,11,12,13,14,16a,16b-hexadecahydro 14-methyl- (2R,3aR,5aR,5bS,9S,13S,14R, 16aS,16bR); XDE-175-L: 1H-as-indaceno[3,2-d]oxacyclododecin-7,15-dione, 2-[(6-deoxy-3-O-ethyl-2,4-di-O-methyl-a-L-mannopyranosyl)oxy]-13-[[(2R,5S,6R)-5-(dimethylamino)tetrahydro-6-methyl-2H-pyran-2-yl]oxy]-9-ethyl-2,3,3a,5a,5b,6,9, 10,11,12,13,14,16a,16b-tetradecahydro-4,14-dimethyl-, (2S,3aR,5aS,5bS,9S,13S,14R, 16aS,16bS); ND-J:(2R,3aR,5aR,5bS,9S,13S,14R,16aS,16bR)-9-ethyl-14-methyl-13-[[(2S,5S,6R)-6-methyl-5-(methylamino)tetrahydro-2H-pyran-2-yl]oxy]-7,15-dioxo-2,3,3a,4,5,5a,5b,6,7,9,10,11,12,13,14,15,16a,16b-octadecahydro-1H-as-indaceno[3,2-d]oxacyclododecin-2-yl 6-deoxy-3-O-ethyl-2,4-di-O-methyl-alpha-L-mannopyranoside; and NF-J: (2R,3S,6S)-6-([(2R,3aR,5aR,5bS,9S,13S,14R,16aS, 16bR)-2-[(6-deoxy-3-O-ethyl-2,4-di-O-methyl-alpha-L-mannopyranosyl) oxy]-9-ethyl-14-methyl-7,15-dioxo-2,3,3a,4,5,5a,5b,6,7,9,10,11,12,13,14,15,16a,16b-octadecahydro-1H-as-indaceno[3,2-d]oxacyclododecin-13-yl]oxy)-2-methyltetrahydro-2H-pyran-3-yl(methyl)formamide in or on nut, tree, group 14 and pistachio from 0.04 to 0.08 ppm; and almond, hulls from 2.0 ppm to 9.0 ppm. A reduction to a 1-day pre-harvest interval (PHI) is supported with new MOR data for the increased tolerances in tree nuts. EPA has determined adequate analytical methods are available for enforcement purposes for spinosad in plant and animal matrices. Methods include an immunoassay particle-based method 97.05 and a high performance liquid chromatography/ultraviolet (HPLC/UV) method GRM 03.15 and a suite of specific crop methods: GRM 94.02 (cottonseed and related commodities), GRM 95.17 (leafy vegetables), GRM 96.09 (citrus), GRM 96.14 (tree nuts), GRM 95.04 (fruiting vegetables), GRM 94.02.S1 (cotton gin byproducts). GRM 94.02 has a successful independent lab validation and was submitted for inclusion in the Pesticide Analytical Manual II (PAM II) as Method I. EPA recently concluded that for water, residues should be estimated using total spinosad residue method (EPA, DP # 316077, August 2, 2006). The Agency has concluded that spinosad are considered toxicologically identical to another pesticide, spinetoram. This conclusion is based on the following:

i. Spinetoram and spinosad are large molecules with nearly identical structures; and

ii. The toxicological profiles for each are similar (generalized systemic toxicity) with similar doses and endpoints chosen for human-health risk assessment. Spinosad and spinetoram should be considered toxicologically identical in the same manner that metabolites are generally considered toxicologically identical to the parent. Contact: Laura Nollen, (703) 305-7390, nollen.laura@epa.gov.

3. PP 8F7454. (EPA-HQ-OPP-2008-0806). Y-TEX Corporation, 1825 Big Horn Avenue, P.O. Box 1450, Cody, WY 82414, proposes to amend the tolerances in 40 CFR 180.449 by increasing the combined residues of the insecticide avermectin B1 (a mixture of avermectins containing greater than or equal to 80% avermectin B1a(5-O-demethyl avermectin A1) and less than or equal to 20% avermectin B1b(5-O-demethyl-25-de(1-methylpropyl)-25-(1-methylethyl) avermectin A1)) and its delta-8,9-isomer in or on cattle, fat from 0.015 ppm to 0.03 ppm and cattle, meat byproducts from 0.02 ppm to 0.06 ppm. Avermectin B1 is referred to as simply abamectin throughout this document. The analytical method is titled “Determination of Macrocyclic Lactone Residues in Bovine and Ovine Tissues,” referenced as Method No. AATM-R-53. The method involves maceration of the tissue sample with acetonitrile, homogenization, filtration, partition, extraction and cleanup with analysis by high performance liquid chromatography (HPLC) - fluorescence detection. The method is sufficiently sensitive to detect residues at a limit of detection of 0.002 ppm and a limit of quantification of 0.005 ppm. Both levels are below the tolerances proposed. The method has undergone independent laboratory validation as required by PR Notice 96-1. Contact: Thomas Harris, (703) 308-9423, harris.thomas@epa.gov.

4. PP 8F7452. (EPA-HQ-OPP-2008-0813). Bayer CropScience, 2 T.W. Alexander Drive, Research Triangle Park, NC 27709, proposes to reduce the tolerance for residues of the herbicide tembotrione, 2-[2-chloro-4-methylsulfonyl)-3-[(2,2,2-trifluoroethoxy)methyl]benzoyl]-1,3-cyclohexanedione, and its metabolite (M5), 2-[2-chloro-4-(methylsulfonyl)-3-[(2,2,2-trifluoroethoxy)methyl]benzoyl]-4,6-dihydroxy-1,3-cyclohexanedione in or on corn, sweet, forage at 0.09 ppm; corn, sweet, kernel plus cob with husks removed at 0.01 ppm; corn, sweet, stover at 0.15 ppm. Independently validated, analytical methods for plants, plant products and animal matrices, suitable for enforcement purposes, have been submitted for measuring tembotrione and all significant metabolites. Typically, residues are extracted from plant or animal using accelerated solvent extraction. Following concentration, quantitation is by liquid chromatography/mass spectrometry/mass spectrometry (LC/MS/MS) using deuterated internal standards. AE 1392936 requires additional clean-up by anion exchange, solid phase extraction prior to quantitation. Determination of AE 1417268 in ruminant samples requires a hexane wash prior to quantitation. Contact: Michael Walsh, (703) 308-2972, walsh.michael@epa.gov.

New Exemptions from an Inert Tolerance

1. PP 8E7362. (EPA-HQ-OPP-2008-0601). Ag-Chem Consulting, 12208 Quinque Lane, Clifton, VA 21024 on behalf of Caltex Inc., 2 Market Street, Sydney Australia, proposes to establish an exemption from the requirement of a tolerance in 40 CFR 180.920 for residues of the ultraviolet (UV) stabilizer Phenol, 2-(2H-benzotriazol-2-yl)-6-dodecyl-4-methyl (CAS No. 23328-53-2) when used as a pesticide inert ingredient in pesticide spray oil formulations at a maximum concentration of 0.6% in or on Adzuki beans, canola, chickpeas, cotton, faba beans, field peas, lentils, linola, linseed, lucerne, lupins, mungbeans, navy beans, pigeon peas, safflower, sunflower, and vetch. Because this petition is a request for an exemption from the requirement of a tolerance, no analytical method is required. Contact: Karen Samek, (703) 347-8825, samek.karen@epa.gov.

2. PP 8E7363. (EPA-HQ-OPP-2008-0602). Ag-Chem Consulting, 12208 Quinque Lane, Clifton, VA 21024 on behalf of Caltex Inc., 2 Market Street, Sydney Australia, proposes to establish an exemption from the requirement of a tolerance in 40 CFR 180.920 for residues of the ultraviolet (UV) stabilizer 2-(2'-hydroxy-3',5'-di-t-amylphenyl)-benzotriazole (CAS No. 25973-55-1) when used as a pesticide inert ingredient in pesticide spray oil formulations at a maximum concentration of 0.6% in or on Adzuki beans, canola, chickpeas, cotton, faba beans, field peas, lentils, linola, linseed, lucerne, lupins, mungbeans, navy beans, pigeon peas, safflower, sunflower, and vetch. Because this petition is a request for an exemption from the requirement of a tolerance, no analytical method is required. Contact: Karen Samek, (703) 347-8825, samek.karen@epa.gov.

3. PP 8E7387. (EPA-HQ-OPP-2008-0671). Loveland Products, Inc., P.O. Box 1286, Greeley, CO 80632-1286, proposes to establish an exemption from the requirement of a tolerance in 40 CFR 180.920 for residues of the choline chloride (CAS No. 67-48-1) when used as a pesticide inert ingredient as a solvent in pesticide formulations. Because this petition is a request for an exemption from the requirement of a tolerance, no analytical method is required. Contact: Karen Samek, (703) 347-8825, samek.karen@epa.gov.

4. PP 8E7421. (EPA-HQ-OPP-2008-0794). Akzo Nobel Surface Chemistry, LLC, 525 West Van Buren Street, Chicago, IL 60607-3823, proposes to establish an exemption from the requirement of a tolerance in 40 CFR 180.960 for residues of formaldehyde, polymer with 2-methyloxirane and 4-nonylphenol (CAS No. 37523-33-4) when used as a pesticide inert ingredient in pesticide formulations. Akzo Nobel submitted a petition to EPA under the Federal Food, Drug, and Cosmetic Act (FFDCA), as amended by the Food Quality Protection Act of 1996 (FQPA) requesting an exemption from the requirements of a tolerance. This petition requests the elimination of the need to establish a maximum permissible level for residues of formaldehyde, polymer with 2-methyloxirane and 4-nonylphenol in or on all raw agricultural commodities. Because this petition is a request for an exemption from the requirement of a tolerance, no analytical method is required. Contact: Alganesh Debesai, (703) 308-8353, debesai.alganesh@epa.gov.

List of Subjects

Environmental protection, Agricultural commodities, Feed additives, Food additives, Pesticides and pests, Reporting and recordkeeping requirements.

Dated: November 25, 2008.
Lois Rossi,
Director, Registration Division, Office of Pesticide Programs.

[FR Doc. E8-28668 Filed 12-2-08; 8:45 am]

BILLING CODE 6560-50-S